DEPARTMENT OF TRANSPORTATION

Federal Railroad Administration

Petition for Waivers of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief, the regulatory provisions involved, the nature of the relief being requested, and the petitioner's arguments in favor of relief.

Jackson International, Inc.

[Docket Number FRA-2001-10947]

Jackson International, Inc., (JAXON) has developed a hydraulically operated low input handbrake for use on freight rail cars. This new handbrake complies with the FRA regulations in all but two areas, namely: 231.27 (a)(1)(i) Each box or house car without roof hatches shall be equipped with an efficient vertical wheel handbrake which shall operate in harmony with the power brake thereon. 231.27 (a)(3)(i) The handbrake shall be located so that it can be safely operated from horizontal end platform while car is in motion. The JAXON Hydraulic Low Input Handbrake is operated with a back-and-forth action hand pump lever and not a wheel. The JAXON Handbrake can be operated from the horizontal end platform or from a ladder. If a waiver is granted, Jackson International, Inc., would be able to market and sell this hydraulic handbrake as an alternative to the traditional geared handbrakes that are currently used in the rail industry.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number, (e.g., Docket Number FRA-2001-10947) and must be submitted to the DOT Docket Management Facility, Room PL-401 (Plaza Level), 400 Seventh Street, SW., Washington, DC 20590. Communications received within 45 days from the date of this notice will be considered by FRA before final action is taken. Comments received after that date will be considered as far as practical. All written communications concerning these proceedings are available for examination during regular business hours (9 a.m.-5 p.m.) at the above facility. All documents in the public docket are also available for inspection and copying on the Internet at the docket facility's web site at http://dms.dot.gov.

Issued in Washington, DC on November 15, 2001.
Grady C. Cothen, Jr.,
Deputy Associate Administrator for Safety Standards and Program Development.

[FR Doc. 01-29300 Filed 11-23-01; 8:45 am]

BILLING CODE 4910-06-P